DEPARTMENT OF AGRICULTURE

Forest Service

Mendocino Resource Advisory Committee

AGENCY: Forest Service, USDA.

ACTION: Notice of meeting.

SUMMARY: The Mendocino County Resource Advisory Committee (RAC) will meet March 12, 2004, in Willits, California. Agenda items to be covered include: (1) Introductions; (2) Federal Advisory Committee Act (FACA) summary; (3) RAC overview; (4) selection of chair; (5) support role of Forest Service; (6) meeting logistics; (7) public comment; (8) general discussion; and (9) next agenda and meeting date.

DATES: The meeting will be held on March 12, 2004, from 8:30 a.m. to 4:30 p.m.

ADDRESSES: The meeting will be held at the Mendocino County Museum, located at 400 E. Commercial St. Willits, California.

FOR FURTHER INFORMATION CONTACT: Roberta Hurt, Committee Coordinator, USDA Forest Service, Mendocino National Forest, Covelo Ranger District, 78150 Covelo Road, Covelo CA 95428. (707) 983-6118; E-mail rhurt@fs.fed.us.

SUPPLEMENTARY INFORMATION: The meeting is open to the public. Persons who wish to bring matters to the attention of the Committee will have the opportunity to address the committee at the meeting.

Dated: February 6, 2004.
James Fenwood,
Forest Supervisor.

[FR Doc. 04-3770 Filed 2-20-04; 8:45 am]

BILLING CODE 3410-11-M